DEPARTMENT OF ENERGY

Federal Energy Regulatory Commission

[Docket No. CP01-409-000, Docket No. CP01-410-000, Docket No. CP01-411-000]

Calypso Pipeline, LLC; Notice of Application

July 30, 2001.

Take notice that on July 20, 2001, Calypso Pipeline, LLC (Calypso), 1400 Smith Street, Houston, Texas 77002, filed and application in the above-referenced docket numbers pursuant to Section 7(c) of the Natural Gas Act, as amended, and Parts 157 and 284 of the Commission's Rules and Regulations, for: (1) a certificate of public convenience and necessity; (i) authorizing Calypso to construct, own, and operate a new natural gas pipeline under Part 157, Subpart A, (ii) approving the pro forma tariff, and (iii) approving the proposed initial rates for service; (2) a blanket certificate authorizing Calypso to construct, operate, and abandon certain facilities (self-implementing routine activities) under Part 157, Subpart F; and (3) a blanket certificate authorizing Calypso to transport natural gas, on an open access and self-implementing basis, under Part 284, Subpart G. The application is on file with the Commission and open to public inspection. This filing may be viewed on the web at http://www.ferc.gov using the “RIMS” link, select “Docket#” and follow the instructions (please call (202) 208-2222 for assistance).

Calypso requests authorization to construct, own, and operate a new pipeline system consisting of approximately a 36 mile, 24-inch offshore segment and approximately a 5.8 mile, 24-inch onshore segment. The offshore pipeline will extend from the boundary of the U.S. Exclusive Economic Zone (EEZ) and the Bahama EEZ, off the southeast Florida coastline (as defined in the 1995 Department of State Public Notice 2237—Exclusive Economic Zone and Maritime Boundaries; Notice of Limits U.S. Atlantic Coast and Gulf of Mexico ¹) to shore at Port Everglades in Fort Lauderdale, Florida. The proposed onshore pipeline segment will be located in Broward County, Florida. The onshore pipeline segment will connect the offshore pipeline with Florida Gas Transmission Company's (“FGT”) existing 24-inch Lauderdale Lateral at Mile Post 1.6 in Broward County, Florida. Calypso's proposed pipeline was designed to transport up to 832,000 MMBtu per day.

¹ 60 FED. REG. ¶ 43,825 (1995).

Calypso states that it would receive natural gas from a non-jurisdictional offshore pipeline that would be constructed and would consist of approximately 53.9 miles of 24-inch pipe. This non-jurisdictional pipeline would start at an LNG storage terminal and regasification facility that would be built in Freeport, Grand Bahama Island and end at an interconnection with Calypso's proposed offshore segment at the U.S./Bahamian EEZ boundary.

Calypso estimates that the total capital cost of constructing the pipeline and appurtenant facilities will be approximately $132 million. Calypso also filed a pro forma FERC Gas Tariff showing the initial rates for firm transportation service, consisting of a 7.32 cents/MMBtu reservation charge, and a 0.22 cents/MMBtu usage charge; and for interruptible transportation service, a 7.54 cents/MMBtu usage charge. The usage rate for interruptible service is a 100% load factor derivative of the firm service rate. Calypso also requests a limited waiver for the requirement to include a discount recognition provision in its tariff. Calypso states that this requirement is inapplicable to Calypso because Calypso currently has no categories of discountable charges other than the base rates.

Calypso indicates that it announced an open season to receive requests and obtain binding commitments for transportation capacity. The open season started on April 27, 2001 and ended on May 29, 2001. As a result, Calypso received three responses. Two of the responses contained contingencies that rendered the bids non-binding on the parties submitting the responses. The third response, by Enron LNG Marketing, LLC (Enron LNG), was for all of the pipeline capacity for twenty years at maximum tariff rates and contained no contingencies. Calypso awarded all the capacity to Enron LNG.

Calypso has identified a total of 24 landowners and governmental agencies that could be affected by the proposed pipeline. Calypso states that no natural forested communities would be affected by construction. Four wetland areas would be temporarily impacted. These impacted areas include approximately 1.7 acres of non-forested wetlands and less than 0.01 acres of sea grass. Calypso claims that there will be no permanent wetland impacts. Calypso also states that there will be no air emissions or noise impacts from pipeline operations because there are no compression facilities.

Any questions regarding the application be directed to Alice K. Weekley, Calypso Pipeline, LLC, 333 Clay Street, Suite 1800, Houston, Texas 77002, at (713) 646-7381, or at alice.weekley@enron.com.

There are two ways to become involved in the Commission's review of this project. First, any person wishing to obtain legal status by becoming a party to the proceedings for this project should, on or before August 20, 2001, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

David P. Boergers,
Secretary.

[FR Doc. 01-19443 Filed 8-2-01; 8:45 am]

BILLING CODE 6717-01-P